DEPARTMENT OF JUSTICE

Office of Justice Programs

[OJP (NIJ) Docket No. 1622]

NIJ Evaluation of Hand-Held Cell Phone Detector Devices

AGENCY: National Institute of Justice, Department of Justice.

ACTION: Notice.

SUMMARY: The National Institute of Justice (NIJ) is soliciting interest in supplying hand-held cell phone detector devices for participation in an evaluation by the NIJ Corrections Technology Center of Excellence (CXCoE).

SUPPLEMENTARY INFORMATION: NIJ is soliciting interest in supplying hand-held cell phone detector devices for participation in an evaluation by the NIJ Corrections Technology Center of Excellence (CXCoE). The evaluation is focused on field operation in correctional facility scenarios. Supplied hand-held cell phone detectors must:

• Weigh less than 8 lbs,

• Be battery operated with a minimum run time of 2 hours,

• Be designed for single person operation, and

• Operate using Radio Frequency (RF) and/or Non-Linear Junction Detection (NLJD) technology

Manufacturers interested in participating in this evaluation will be asked to execute a Letter of Understanding. Participating manufacturers will receive a copy of the CXCoE Test & Evaluation Plan. Interested parties are invited to contact NIJ for information regarding participation, Letters of Understanding, and shipping. Letters of Understanding may be obtained from and should be submitted to Jack flame, National Institute of Justice, Office of Science and Technology, 810 7th Street NW., Washington, DC 20531, emailed to jack.harne@usdoj.gov, or faxed to (202) 305-9907.

DATES: Manufacturers who wish to participate in the program must submit a request and an executed Letter of Understanding by 5 p.m. Eastern Time on June 24, 2013. Supplied devices are to be loaned to the CXCoE for a period of time no less than 90 days and must be received by the CXCoE by July 1, 2013.

FOR FURTHER INFORMATION CONTACT: Jack Harne, by telephone at (202) 616-2911 [Note: this is not a toll-free telephone number], or by email at jack.harne@usdoj.gov.

Greg Ridgeway,
Acting Director, Deputy Director, National Institute of Justice.

[FR Doc. 2013-11049 Filed 5-9-13; 8:45 am]

BILLING CODE 4410-18-M